DEPARTMENT OF ENERGY

Federal Energy Regulatory Commission

[Docket No. RP98-53-025]

Kinder Morgan Interstate Gas Transmission LLC; Notice of Filing of Refund Report

July 15, 2002.

Take notice that on June 28, 2002, Kinder Morgan Interstate Gas Transmission LLC (KMIGT) tendered for filing a report regarding Kansas ad valorem tax refunds. KMIGT states that this filing is being made in compliance with Commission order issued March 18, 2002 in Docket Nos. RP98-53-024, et al. Among other things, that order approved a settlement of these matters and extended the deadline for KMIGT's report to July 1, 2002. KMIGT states that a copy of this filing was served on all intervenors in the subject proceedings, the Appendix B parties, and relevant state regulatory commissions.

Any person desiring to protest said filing should file a protest with the Federal Energy Regulatory Commission, 888 First Street, NE., Washington, DC 20426, in accordance with Section 385.211 of the Commission's rules and regulations. All such protests must be filed on or before August 2, 2002. Protests will be considered by the Commission in determining the appropriate action to be taken, but will not serve to make protestants parties to the proceedings. Copies of this filing are on file with the Commission and are available for public inspection. This filing may be viewed on the web at http://www.ferc.fed.us/online/rims.htm (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-18288 Filed 7-18-02; 8:45 am]

BILLING CODE 6717-01-P